ENVIRONMENTAL PROTECTION AGENCY

[FRL-7861-6]

Notice of Proposed Agreement for Recovery of Past Response Costs Under the Comprehensive, Environmental Response, Compensation and Liability Act of 1980 (CERCLA), as Amended, 42 U.S.C. 9622(h)(1), R&R Foundry Superfund Site, Topeka, KS, Docket No. CERCLA-07-2004-0297

AGENCY: Environmental Protection Agency.

ACTION: Notice of Proposed Agreement for Recovery of Past Response Costs, R&R Foundry Superfund Site, Topeka, Kansas.

SUMMARY: Notice is hereby given that a proposed agreement regarding the R&R Foundry Superfund Site located in Topeka, Kansas, was signed by the United States Environmental Protection Agency (EPA) on December 13, 2004.

DATES: EPA will receive, for a period of thirty (30) days from the date of this publication, written comments relating to the proposed agreement.

ADDRESSES: Comments should be addressed to J. Scott Pemberton, Senior Assistant Regional Counsel, United States Environmental Protection Agency, Region VII, 901 N. 5th Street, Kansas City, Kansas 66101, and should refer to: In the Matter of R&R Foundry Superfund Site, Topeka, Kansas, Docket No. CERCLA-07-2004-0297.

The proposed agreement may be examined or obtained in person or by mail from Kathy Robinson, Regional Hearing Clerk, at the office of the United States Environmental Protection Agency, Region VII, 901 N. 5th Street, Kansas City, Kansas 66101, (913) 551-7567.

SUPPLEMENTARY INFORMATION: This proposed Agreement concerns the R&R Foundry Superfund Site, located in Topeka, Kansas, and is made and entered into by the EPA and CSE Technologies, Inc. (“the Settling Party”). This Site occupied 0.553 acres, with nearly 0.138 acres of contaminated soil.

In response to the release of hazardous substances including lead at or from the Site, EPA undertook response actions at the Site pursuant to Section 104 of CERCLA, 42 U.S.C. 9604. Approximately 367 tons of lead-contaminated soil were excavated, treated on-site, and disposed off-site. In performing these response actions, EPA incurred response costs at or in connection with the Site.

Pursuant to Section 107(a) of CERCLA, 42 U.S.C. 9607(a), the Settling Party is responsible for response costs incurred at or in connection with the Site. The Regional Administrator of EPA, Region VII, or his designee, has determined that the total past and projected response costs of the United States at or in connection with the Site will not exceed $500,000, excluding interest.

This Agreement requires the Settling Party to pay to the EPA Hazardous Substance Superfund the principal sum of $80,000 in reimbursement of Past Response Costs, and will resolve the Settling Party's alleged civil liability for these costs. The proposed Agreement also includes a covenant not to sue the Settling Party pursuant to Section 107(a) of CERCLA, 42 U.S.C. 9607(a).

Dated: December 28, 2004.
James B. Gulliford,
Regional Administrator, United States Environmental Protection Agency, Region VII.

[FR Doc. 05-820 Filed 1-13-05; 8:45 am]

BILLING CODE 6560-50-P